DEPARTMENT OF TRANSPORTATION

Surface Transportation Board

[STB Docket No. AB-290 (Sub-No. 273X)]

The Alabama Great Southern Railroad Company—Discontinuance of Service Exemption—in Saint Bernard Parish, LA

The Alabama Great Southern Railroad Company (AGS), a wholly owned subsidiary of Norfolk Southern Railway Company (NSR), has filed a notice of exemption under 49 CFR 1152 Subpart F—Exempt Abandonments and Discontinuances of Service to discontinue service over a 4.50-mile line of railroad, between milepost 0.00 PT, at Poydras Junction, and milepost 4.50 PT, at Toca, in Saint Bernard Parish, LA. The line traverses United States Postal Service Zip Code 70085.

AGS has certified that: (1) No local traffic has moved over the line for at least 2 years; (2) no overhead traffic has moved over the line for at least 2 years, and that overhead traffic, if there were any, could be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.12 (newspaper publication), and 49 CFR 1152.50(d)(1) (notice to governmental agencies) have been met.¹

¹ Because this is a discontinuance of service proceeding and not an abandonment, the proceeding is exempt from the requirements of 49 CFR 1105.7 (environmental reports), 49 CFR 1105.8 (historic reports), and 49 CFR 1105.11 (transmittal letter).

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on August 17, 2006,² unless stayed pending reconsideration. Petitions to stay and formal expressions of intent to file an OFA under 49 CFR 1152.27(c)(2),³ must be filed by July 28, 2006. Petitions to reopen must be filed by August 7, 2006, with the Surface Transportation Board, 1925 K Street, NW., Washington, DC 20423-0001.

² Because this is a discontinuance proceeding, trail use/rail banking and public use conditions are not applicable.

³ Each OFA must be accompanied by the filing fee, which was increased to $1,300 effective on April 19, 2006. See Regulations Governing Fees for Services Performed in Connection with Licensing and Related Services—2006 Update, STB Ex Parte No. 542 (Sub-No. 13) (STB served Mar. 20, 2006).

A copy of any petition filed with the Board should be sent to applicant's representative: James R. Paschall, Senior General Attorney, The Alabama Great Southern Railroad Company, Three Commercial Place, Norfolk, VA 23510.

If the verified notice contains false or misleading information, the exemption is void ab initio.

Board decisions and notices are available on our Web site at WWW.STB.DOT.GOV.

Decided: July 11, 2006.
By the Board, David M. Konschnik, Director, Office of Proceedings.
Vernon A. Williams,
Secretary.

[FR Doc. E6-11267 Filed 7-17-06; 8:45 am]

BILLING CODE 4915-01-P